DEPARTMENT OF THE TREASURY

Office of Foreign Assets Control

Actions Taken Pursuant to Executive Order 13382 Related to the Islamic Republic of Iran Shipping Lines (IRISL)

AGENCY: Office of Foreign Assets Control, Treasury.

ACTION: Notice.

SUMMARY: The Treasury Department's Office of Foreign Assets Control (“OFAC”) is publishing the names of four vessels identified as property blocked because of their connection to the Islamic Republic of Iran Shipping Lines (IRISL) and is updating the entries on OFAC's list of Specially Designated Nationals and Blocked Persons of 10 already-blocked vessels to identify new names and/or other information.

DATES: The identification and updates made by the Director of OFAC, pursuant to Executive Order 13382, of the 14 vessels in this notice was effective on March 24, 2011.

FOR FURTHER INFORMATION CONTACT: Assistant Director, Sanctions Compliance & Evaluation, tel.: 202/622-2490, Office of Foreign Assets Control; Assistant Director for Policy, tel.: 202/622-4855, Office of Foreign Assets Control; or Chief Counsel (Foreign Assets Control), tel.: 202/622-2410, Office of the General Counsel, Department of the Treasury, Washington, DC 20220.

SUPPLEMENTARY INFORMATION:

Electronic and Facsimile Availability

This document and additional information concerning OFAC are available from OFAC's Web site (http://www.treas.gov/offices/enforcement/ofac) or via facsimile through a 24-hour fax-on demand service, tel.: (202) 622-0077.

Background:

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On March 24, 2011, the Director of OFAC identified four vessels as property of the Islamic Republic of Iran Shipping Lines (IRISL) and updated the entries on OFAC's list of Specially Designated Nationals and Blocked Persons of 10 already-blocked IRISL vessels to identify new names or other information given to those vessels. Banks are instructed to reject any funds transfer referencing a blocked vessel and must notify OFAC, via facsimile with a copy of the payment instructions that funds have been returned to the remitter due to the possible involvement of a SDN vessel in the underlying transaction.

Newly Identified Vessels:

IRAN DARYA General Cargo 3,850DWT 2,842GRT Iran flag (IRISL); Vessel Registration Identification IMO 9245304 (Iran) (vessel) [NPWMD]

NARDIS (f.k.a. FERDOS) (Iran) General Cargo 3,817DWT 2,842GRT Iran flag (IRISL); Vessel Registration Identification IMO 9137246 (Iran) (vessel) [NPWMD]

PARMIS (f.k.a. IRAN BARAN; f.k.a. PARDIS) General Cargo 3,839DWT 2,842GRT Iran flag (IRISL); Vessel Registration Identification IMO 9245316 (Iran) (vessel) [NPWMD]

PATRIS General Cargo 3,853DWT 2,842GRT Malta flag (IRISL); Vessel Registration Identification IMO 9137210 (Malta) (vessel) [NPWMD]

Already-Blocked Vessels With New Information:

CHAIRMAN (f.k.a. ALIM; f.k.a. IRAN ALIM) Bulk Carrier 53,100DWT 31,117GRT MALTA flag (IRISL); Vessel Registration Identification IMO 9465849 (Malta) (vessel) [NPWMD]

CHAPAREL (f.k.a. HAKIM; f.k.a. IRAN HAKIM) Bulk Carrier 53,100DWT 31,117GRT MALTA flag (IRISL); Vessel Registration Identification IMO 9465863 (Malta) (vessel) [NPWMD]

CHAPLET (f.k.a. IRAN RAHIM; f.k.a. RAHIM) Bulk Carrier 53,100DWT 31,117GRT Malta flag (IRISL); Vessel Registration Identification IMO 9465746 (vessel) [NPWMD]

CHAPMAN (f.k.a. AZIM; f.k.a. IRAN AZIM) Bulk Carrier 53,100DWT 31,117GRT MALTA flag (IRISL); Vessel Registration Identification IMO 9465760 (Malta) (vessel) [NPWMD]

CHARIOT (f.k.a. IRAN KARIM; f.k.a. KARIM) Bulk Carrier 53,100DWT 31,117GRT Malta flag (IRISL); Vessel Registration Identification IMO 9465758 (vessel) [NPWMD]

SABRINA (f.k.a. IRAN BASHEER) General Cargo 2,850DWT 2,563GRT Iran flag (IRISL); Vessel Registration Identification IMO 8215742 (vessel) [NPWMD]

SARINA (f.k.a. IRAN SAHAR; f.k.a. RA-EES ALI) General Cargo 2,876DWT 2,576GRT Iran flag (IRISL); Vessel Registration Identification IMO 8203608 (vessel) [NPWMD]

SARIR (f.k.a. IRAN AMIRABAD) General Cargo 7,004DWT 5,676GRT Iran flag (IRISL); Vessel Registration Identification IMO 9368003 (vessel) [NPWMD]

VIANA (f.k.a. IRAN GHADEER) General Cargo 3,955DWT 3,638GRT Iran flag (IRISL); Vessel Registration Identification IMO 9010723 (vessel) [NPWMD]

VISTA (f.k.a. IRAN BASEER) General Cargo 3,955DWT 3,638GRT Iran flag (IRISL); Vessel Registration Identification IMO 9010711 (vessel) [NPWMD]

Dated: August 29, 2011.
Adam J. Szubin,
Director, Office of Foreign Assets Control.

[FR Doc. 2011-22685 Filed 9-2-11; 8:45 am]

BILLING CODE 4810-AL-P